SMALL BUSINESS ADMINISTRATION

[Disaster Declaration #20645 and #20646; LOUISIANA Disaster Number LA-20005]

Presidential Declaration Amendment of a Major Disaster for the State of Louisiana

AGENCY: U.S. Small Business Administration.

ACTION: Amendment 1.

SUMMARY: This is an amendment of the Presidential declaration of a major disaster for the State of Louisiana (FEMA-4817-DR), dated September 16, 2024.

DATES: Issued on September 23, 2024.

Physical Loan Application Deadline Date: November 18, 2024.

Economic Injury (EIDL) Loan Application Deadline Date: June 16, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Louisiana, dated September 16, 2024, is hereby amended to include the following areas as adversely affected by the disaster:

Incident: Hurricane Francine.

Incident Period: September 9, 2024 through September 12, 2024.

Primary Parishes (Physical Damage and Economic Injury Loans):

Jefferson.

Contiguous Parishes (Economic Injury Loans Only):

Louisiana: Orleans, Plaquemines, St. Tammany.

All other information in the original declaration remains unchanged.

(Catalog of Federal Domestic Assistance Number 59008)

Francisco Sánchez, Jr.,
Associate Administrator, Office of Disaster Recovery & Resilience.

[FR Doc. 2024-22212 Filed 9-26-24; 8:45 am]

BILLING CODE 8026-09-P